DEPARTMENT OF THE INTERIOR

Bureau of Land Management

[L10200000 PH0000 LXSS006F0000, LLNV912; MO#4500062375]

Notice of Public Meetings: Mojave-Southern Great Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Mojave-Southern Great Basin Resource Advisory Council (RAC), will hold three meetings in Nevada in Fiscal Year 2014. The meetings are open to the public.

DATES AND TIMES: March 13, BLM Southern Nevada District Office, 4701 N. Torrey Pines Dr., Las Vegas, Nevada; July 17, BLM Southern Nevada District Office, 4701 N. Torrey Pines Dr., Las Vegas, Nevada; and Sept. 18, BLM Ely District Office, 702 North Industrial Way, Ely, Nevada. Meeting times will be published in local and regional media sources at least 14 days before each meeting. All meetings will include a public comment period.

FOR FURTHER INFORMATION CONTACT: Hillerie Patton, Public Affairs Specialist, Southern Nevada District Office, 4701 N. Torrey Pines Dr., Las Vegas, NV 89130, telephone: (702) 515-5046, email: hpatton@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The 15-member Council advises the Secretary of the Interior, through the BLM, on a variety of planning and management issues associated with public land management in Nevada. Topics for discussion at each meeting will include, but are not limited to:

• March 13 (Las Vegas)—Southern Nevada District Resource Management Plan and permitted recreation.

• July 17 (Las Vegas)—Battle Mountain District and Southern Nevada District resource management plans.

• September 18 (Ely)—Southern Nevada Public Land Management Act, Drought and Wild Horses, and Nevada land transfer.

Managers' reports of field office activities will be given at each meeting. The Council may raise other topics at the meetings.

Final agendas will be posted on-line at the BLM Mojave-Southern Great Basin RAC Web site at http://www.blm.gov/nv/st/en/res/resource_advisory.html.

Individuals who need special assistance such as sign language interpretation or other reasonable accommodations, or who wish to receive a copy of each agenda, may contact Hillerie Patton no later than 10 days prior to each meeting.

Erica Haspiel-Szlosek,
Chief, Office of Communications.

[FR Doc. 2014-04574 Filed 2-28-14; 8:45 am]

BILLING CODE 4310-HC-P